Executive Order 14305 of June 6, 2025

Restoring American Airspace Sovereignty

By the authority vested in me as President by the Constitution and the laws of the United States of America, it is hereby ordered:

Section 1. Purpose. Unmanned aircraft systems (UAS), otherwise known as drones, offer the potential to enhance public safety as well as cement America's leadership in global innovation. But criminals, terrorists, and hostile foreign actors have intensified their weaponization of these technologies, creating new and serious threats to our homeland. Drug cartels use UAS to smuggle fentanyl across our borders, deliver contraband into prisons, surveil law enforcement, and otherwise endanger the public. Mass gatherings are vulnerable to disruptions and threats by unauthorized UAS flights. Critical infrastructure, including military bases, is subject to frequent—and often unidentified—UAS incursions. Immediate action is needed to ensure American sovereignty over its skies and that its airspace remains safe and secure.

Sec. 2. Definitions. For the purposes of this order:

(a) the term “unmanned aircraft systems” or “UAS” has the meaning given in 49 U.S.C. 44801;

(b) the term “critical infrastructure” has the meaning given in 42 U.S.C. 5195c(e), and includes systems and assets in all of the designated critical infrastructure sectors identified in National Security Memorandum 22 of April 30, 2024 (Critical Infrastructure Security and Resilience) (NSM-22); and

(c) the term Sector Risk Management Agency or “SRMA” has the same meaning given in 6 U.S.C. 650 and as further described in NSM-22.

Sec. 3. Policy. It is the policy of the United States to ensure control over our national airspace and to protect the public, critical infrastructure, mass gathering events, and military and sensitive government installations and operations from threats posed by the careless or unlawful use of UAS.

Sec. 4. Task Force to Restore American Airspace Sovereignty. To assist in ensuring control over our national airspace, there is hereby established the Federal Task Force to Restore American Airspace Sovereignty (Task Force). The Task Force shall be chaired by the Assistant to the President for National Security Affairs (APNSA) or a designee, and include principals, or their designees, from appropriate executive departments and agencies as identified by the APNSA. The Task Force shall review relevant operational, technical, and regulatory frameworks and develop and propose solutions to UAS threats, as appropriate and consistent with applicable law, and shall make recommendations on the implementation of all actions identified in this order.

Sec. 5. Airspace Regulations to Protect the Public. The Administrator of the Federal Aviation Administration (FAA) shall:

(a) with respect to the rulemaking required by section 2209(f) of the FAA Extension, Safety, and Security Act of 2016, as amended:

(i) promptly submit a notice of proposed rulemaking (NPRM) to the Office of Management and Budget (OMB) and the Task Force establishing the statutorily required process for restricting drone flights over fixed site facilities, and interpreting, to the extent appropriate, critical infrastructure consistent with the definition of that term in this order; and

(ii) promulgate a final rule as soon as practicable after publication of the NPRM;

(b) make national security and homeland security assessments under section 2209 in coordination with Sector Risk Management Agencies (SRMAs), the Secretary of Defense, the Secretary of Homeland Security, or the Attorney General, as appropriate, and whenever military installations or operations are implicated, with the Secretary of Defense; and

(c) within 180 days of the date of this order, make freely available online Notices to Airmen (NOTAMs) and Temporary Flight Restrictions (TFRs) in an open format easily accepted for drone geofencing and Aircraft Navigation and Guidance system purposes. This online availability should supplement, but not replace, existing NOTAMs and TFR promulgation methods.

Sec. 6. Enhancing Airspace Sovereignty. (a) the Attorney General, in coordination with the Administrator of the FAA, shall take appropriate steps to ensure full enforcement of applicable civil and criminal laws when drone operators endanger the public, violate established airspace restrictions, or operate a drone in furtherance of an element of another crime;

(b) on a recurring basis, the Attorney General shall submit to the President, through the APNSA, legislative proposals that would revise criminal penalties for violations of restricted airspace; and

(c) within 30 days of the date of this order, and to the extent allowed by law, the Attorney General and the Secretary of Homeland Security shall ensure that their respective departments' grant programs permit otherwise eligible State, local, tribal, and territorial (SLTT) agencies to receive grants to purchase UAS or equipment or services for the detection, tracking, or identification of drones and drone signals, consistent with the legal authorities of those SLTTs.

Sec. 7. Detection, Tracking, and Identification of Drones and Drone Signals. (a) To the extent permitted by law and consistent with the Fourth Amendment, executive departments and agencies shall use all available existing authorities to employ equipment to detect, track, and identify drones and drone signals.

(b) Within 30 days of the date of this order, the Attorney General, the Secretary of Transportation, the Secretary of Homeland Security, and the Chairman of the Federal Communications Commission shall revise the August 2020 “Advisory on the Application of Federal Laws to the Acquisition and Use of Technology to Detect and Mitigate Unmanned Aircraft Systems” to reflect relevant developments in Federal law and regulations addressing drones.

(c) Within 60 days of the date of this order, the Administrator of the FAA shall provide, to the extent permitted by law, including the Privacy Act of 1974 (5 U.S.C. 552a), automated real-time access to personal identifying information associated with UAS remote identification signals to appropriate executive departments and agencies and SLTT agencies for the purposes of enforcing applicable Federal or State law, with appropriate national security and privacy safeguards.

(d) Within 60 days of the date of this order, the Secretary of Homeland Security and the Administrator of the FAA, in coordination with the heads of other SRMAs as appropriate, shall publish guidance to aid private critical infrastructure owners or operators in employing technologies to detect, track, and identify drones and drone signals.

Sec. 8. Enhancing General Protections. Within 90 days of the date of this order, the Secretary of Homeland Security and the Attorney General, in coordination with the Secretary of Defense and the Secretary of Transportation, shall submit a recommendation to the President, through the APNSA, using risk-based assessment as defined in 6 U.S.C. 124n(k)(8), on whether the northern and southern land borders; large airports; Federal facilities; critical infrastructure; and military installations, facilities, and assets should be designated as covered facilities or assets under 6 U.S.C. 124n and 10 U.S.C. 130i and whether any changes to law would be necessary relating to such designation.

Sec. 9. Building Counter-UAS Capacity. (a) Within 30 days of the date of this order, the Attorney General and the Secretary of Homeland Security shall explore integrating counter-UAS operational responses as part of Joint Terrorism Task Forces for the purpose of protecting mass gathering events.

(b) The Attorney General, in coordination with the Secretary of Defense; the Secretary of Transportation, acting through the Administrator of the FAA; the Secretary of Homeland Security; the Director of OMB; and the Chairman of the Federal Communications Commission, shall promptly take all appropriate steps to implement the recommendations of the March 2022 Feasibility Report to Congress with regard to the creation of the National Training Center for Counter-Unmanned Aircraft Systems (Center), and, upon establishment of the Center, focus initial training provided by the Center on development of Federal and SLTT capabilities to secure major upcoming national and international sporting events held in the United States, such as the FIFA World Cup 2026 and the 2028 Summer Olympics.

Sec. 10. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Transportation.

THE WHITE HOUSE,

June 6, 2025.

[FR Doc. 2025-10803

Filed 6-10-25; 11:15 am]

Billing code 4910-9X-P